DEPARTMENT OF COMMERCE

National Oceanic and Atmospheric Administration

Notice of Availability of a Draft Environmental Impact Statement for the Florida Keys National Marine Sanctuary Restoration Blueprint; Announcement of Public Meetings

AGENCY: Office of National Marine Sanctuaries, National Ocean Service, National Oceanic and Atmospheric Administration, Department of Commerce.

ACTION: Notice of availability and public meetings.

SUMMARY: The National Oceanic and Atmospheric Administration (NOAA) has prepared a draft environmental impact statement (DEIS) to evaluate a range of alternatives for changes to the Florida Keys National Marine Sanctuary (FKNMS) to expand the boundary of the sanctuary, update sanctuary-wide regulations, update the individual marine zones and their associated regulations, and revise the sanctuary management plan. FKNMS protects 3,800 square miles of waters surrounding the Florida Keys, from south of Miami westward to the Dry Tortugas. Within the boundary of the sanctuary lie spectacular, unique, and nationally significant marine resources including North America's only coral barrier reef, extensive seagrass beds, mangrove-fringed islands, and more than 6,000 species of marine life. The sanctuary also protects pieces of our Nation's history such as shipwrecks and other archeological resources. The DEIS includes a proposed action and a range of alternatives that would help improve the condition of resources in the Florida Keys through a series of regulatory and management measures designed to reduce threats and, where appropriate, restore coral reefs, seagrasses, and other important habitats. NOAA is soliciting public comment on the DEIS, also referred to as the Restoration Blueprint.

DATES: Comments on this DEIS will be considered if received by January 31, 2020. Public meetings will be held in the following locations and times as indicated below.

Date: Monday, September 23, Location: Key West High School, Address: 2100 Flagler Avenue, Key West, FL 33040, Time: 6-9 p.m.

Date: Monday, September 30, Location: Marathon Middle High School, Address: 350 Sombrero Beach Road, Marathon, FL 33050, Time: 6-9 p.m.

Date: Monday, October 7, Location: Coral Shores High School, Address: 89901 Old Highway, Tavernier, FL 33070, Time: 6-9 p.m.

Date: Tuesday, October 15, Location: TBD, Address: 1 Knights Key Boulevard, Marathon, FL 33050, Time: 9 a.m.—TBD.

Date: Monday, October 28, Location: Newman Alumni Center, Address: 6200 San Amaro Drive, Coral Gables, FL 33146, Time: 6-9 p.m.

Date: Monday, November 4, Location: Holiday Inn Airport at Town Center, Address: 9931 Interstate Commerce Drive Fort Myers, FL 33913, Time: 6-9 p.m.

Date: Tuesday, December 10, Location: TBD, Address: 1 Knights Key Boulevard, Marathon, FL 33050, Time: 9 a.m.—TBD.

The public meetings on September 23, 30, and October 7 in the Florida Keys are designed to be informational only. NOAA will not provide time for oral public comment; however, written comments will be accepted. These meetings will explain the actions, purpose, and likely impacts proposed in the Restoration Blueprint. NOAA will provide for oral and written public comment at the October 15 and December 10 Sanctuary Advisory Council meetings at the Isla Bella Beach Resort in Marathon. Please check https://floridakeys.noaa.gov/ for the schedule and time. NOAA will also accept oral and written public comment at the October 28 Miami-area public meeting and at the November 4 public meeting in Fort Myers.

ADDRESSES: You may submit comments on this document, identified by NOAA-NOS-2019-0094, by the following methods:

• Electronic Submission: Submit all electronic public comments via the Federal e-Rulemaking Portal. Go to www.regulations.gov/#!docketDetail;D=NOAA-NOS-2019-0094, click the “Comment Now!” icon, complete the required fields, and enter or attach your comments.

• Written comments may also be mailed to: Sarah Fangman, Superintendent, FKNMS, 33 East Quay Rd., Key West, FL 33040.

Instructions: Comments sent by any other method, to any other address or individual, or received after the end of the comment period, may not be considered by NOAA. All comments received are a part of the public record and will generally be posted for public viewing on www.regulations.gov without change. All personally identifiable information (e.g., name, address, etc.), confidential business information, or otherwise sensitive information submitted voluntarily by the sender will be publicly accessible. NOAA will accept anonymous comments (enter “N/A” in the required fields if you wish to remain anonymous).

FOR FURTHER INFORMATION CONTACT: Beth Dieveney, Policy Analyst, FKNMS at 305-797-6818 or by email at beth.dieveney@noaa.gov.

Copies of the DEIS can be downloaded or viewed on the internet at www.regulations.gov (search for docket #NOAA-NOS-2019-0094) or at https://floridakeys.noaa.gov/. Copies can also be obtained by contacting Beth Dieveney.

SUPPLEMENTARY INFORMATION:

I. Background

Florida Keys National Marine Sanctuary

Designated in 1990, FKNMS was the ninth national marine sanctuary to be established in a network that comprises 13 sanctuaries and two marine national monuments. As one of the largest marine protected areas in the United States, the sanctuary currently protects approximately 3,800 square miles of coastal and ocean waters from the estuarine waters of South Florida along the Florida Keys archipelago, encompassing more than 1,700 islands, out to Dry Tortugas National Park.

The mission of the sanctuary is to protect the marine resources of the Florida Keys while facilitating human uses that are consistent with the primary objective of sanctuary resource protection. Through continued science-based management, FKNMS endeavors to sustain high-quality environmental and socioeconomic resources for current and future generations. The Florida Keys support more than 77,000 residents and approximately 5.5 million visitors, who collectively contribute to the $4.7 billion economy (Key West Chamber of Commerce, 2018), which relies on the existence and maintenance of a healthy marine environment. The ecosystems of FKNMS provide habitats for more than 6,000 species of fishes, invertebrates, and plants in addition to uniquely expansive and diverse seagrass and coral reef communities. These resources are increasingly threatened by various factors, including high levels of use, coral disease, and climate change. Since release of the 2011 condition report, sanctuary resources have been impacted by Hurricane Irma, a serious coral disease outbreak, a seagrass die-off and other threats.

FKNMS is currently operating under a 2007 revised management plan and regulations largely developed as part of the original management plan process in 1997, with minor modifications to the regulations in 2001 and 2010. Consequently, the sanctuary's 1997 regulations and marine zones and 2007 management plan need updating to reflect current strategies for protecting sanctuary resource and providing recreational access and public use opportunities.

II. NOAA's Proposed Action

This DEIS includes a proposed action with various components intended to counteract the decline in resource condition in the Florida Keys through a series of regulatory and management measures. These measures are designed to reduce threats and, where appropriate, restore coral reefs, seagrasses, and other important habitats. Following the principles and processes set forth in the National Marine Sanctuaries Act ((NMSA), 16 U.S.C. 1431 et seq.), this DEIS evaluates the impacts to the human and ecological environment under a variety of management measures that would further protect the ecosystem and maintain the vibrant quality of life and economies of the Florida Keys.

As the lead agency for this federal action, NOAA proposes to expand the boundary of the sanctuary, update sanctuary-wide regulations, update the individual marine zones and their associated regulations, and revise the sanctuary management plan. In preparing this DEIS, NOAA worked closely with the U.S. Fish and Wildlife Service (USFWS), a cooperating agency that manages the USFWS Florida Keys National Wildlife Refuge Complex areas that overlap portions of FKNMS.

NOAA is seeking public comment on the DEIS, which is available at https://floridakeys.noaa.gov/ or may be obtained by contacting the individual listed under the heading FOR FURTHER INFORMATION CONTACT.

Authority: 16 U.S.C. 1431 et seq.

Dated: August 23, 2019.
John Armor,
Director, Office of National Marine Sanctuaries.

[FR Doc. 2019-18783 Filed 8-29-19; 8:45 am]

BILLING CODE 3510-NK-P